Title 3—

The President

Proclamation 10808 of September 12, 2024

30th Anniversary of the Violence Against Women Act

By the President of the United States of America

A Proclamation

Tomorrow, we celebrate the 30th anniversary of the Violence Against Women Act (VAWA), which has transformed our Nation's response to sexual assault, domestic violence, dating violence, and stalking while also providing communities with the tools necessary to support survivors and save lives. I was proud to write VAWA and champion it three decades ago, and I am even prouder to honor its lasting legacy today.

Before VAWA, our country did not talk about violence against women as a national epidemic or an issue the Government had to address. As a society, we often overlooked domestic violence—calling it a family matter, not a crime. Too few police officers were trained on how to properly respond to domestic violence, and there were not enough places for survivors to go for the help they needed or the justice they deserved. There was no national hotline, and many survivors' stories went untold.

That is why, as a United States Senator, I worked closely with brave and committed survivors and advocates to write VAWA—and with the incredible efforts of activists and women's rights leaders, we got it passed. Courageous survivors spoke out about the abuse they had endured, bringing this hidden epidemic out of the shadows and changing the way America saw this issue. VAWA was a game changer. We began to increase justice for survivors and accountability for perpetrators. And we finally acknowledged ending gender-based violence as a shared priority for the Nation and turned to developing the coordinated response that survivors need and deserve.

Beginning in 1994, VAWA has delivered critical resources and support to help survivors of gender-based violence. Shelters, rape crisis centers, housing, and legal assistance were made available, and funding was provided to train law enforcement, prosecutors, advocates, and judges to improve our justice system's response to survivors. We also created the first-ever National Domestic Violence Hotline, which has provided millions of people with lifesaving, confidential support and this year answered its seven millionth call.

I have worked across the aisle to reauthorize VAWA four times since its initial signing, each time making this critical law even stronger. We strengthened protections against stalking, dating violence, trafficking, and sexual assault, expanded access to justice for Tribal communities, and improved services for immigrant, older adult, and LGBTQI+ survivors, among other underserved communities. As President, I signed the most recent reauthorization of VAWA in 2022, and secured the highest-ever funding level for VAWA implementation. We provided support for survivors and invested in prevention efforts and educational programs so that we can put a stop to violence and abuse before it occurs. And we established a new Federal civil cause of action for individuals whose intimate visual images are disclosed without their consent.

My Administration has prioritized putting an end to gender-based violence even beyond VAWA. I signed the most significant gun safety law in nearly three decades, which narrowed the “boyfriend loophole” to help keep guns out of the hands of domestic abusers. And I established the first-ever White House Office of Gun Violence Prevention. We put in place new protections to support survivors and address sexual assault and sexual harassment in the workplace and released the first-ever National Plan to End Gender-Based Violence, an all-of-government approach to preventing and addressing all forms of gender-based violence. And through the American Rescue Plan, we have invested $1 billion in supplemental funding for rape crisis centers, community support organizations, and other services for gender-based violence survivors.

We have led historic, bipartisan military justice reforms to ensure that prosecutorial decisions in cases of gender-based violence are fully independent from the chain of command and better protect survivors in our military. My Administration has restored and strengthened vital protections under Title IX to help keep students and employees safe from sexual assault and harassment on campus. And Vice President Kamala Harris and I launched a Federal task force that has taken concrete steps toward prevention, accountability for perpetrators, research, and support for survivors of online harassment and abuse, including launching the first 24/7 national helpline for survivors of image-based abuse.

When I presented VAWA to the Senate all those years ago, I envisioned a world where every woman could live free from fear, free from violence, and free from abuse. We have made tremendous strides toward achieving this vision, but there is still much more to do. On this milestone anniversary, let us recommit to creating a society that is truly safe and where we all agree that even one case of gender-based violence is too many. And let us honor the survivors and advocates, whose powerful voices and tireless dedication have changed our world for the better.

NOW, THEREFORE, I, JOSEPH R. BIDEN JR., President of the United States of America, by virtue of the authority vested in me by the Constitution and the laws of the United States, do hereby proclaim September 13, 2024, as the 30th anniversary of the Violence Against Women Act. I call upon each of us to change the culture of violence against women and provide meaningful support to all survivors. Together, we can transform the country and build a Nation where all people live free of violence and abuse.

IN WITNESS WHEREOF, I have hereunto set my hand this twelfth day of September, in the year of our Lord two thousand twenty-four, and of the Independence of the United States of America the two hundred and forty-ninth.

[FR Doc. 2024-21269

Filed 9-16-24; 8:45 am]

Billing code 3395-F4-P